DEPARTMENT OF HOUSING AND URBAN DEVELOPMENT

[Docket No. FR-6113-N-04]

Announcement of Funding Awards

AGENCY: Office of Strategic Planning and Management, HUD.

ACTION: Notice.

SUMMARY: In accordance with section 102(a)(4)(C) of the Department of Housing and Urban Development Reform Act of 1989, this announcement notifies the public of funding decisions made by the Department in competitions for funding under the Notices of Funding Availability (NOFAs) for the following programs: Fiscal Year (FY) 2017 Homeless Management Information System Capacity Building Project (HMIS); FY 2018 Research and Evaluation, Demonstrations, and Data Analysis and Utilization Program (HUDRD); FY 2018 Healthy Homes Production Grant Program for Tribal Housing; FY 2019 Housing Opportunities for Persons with AIDS (HOPWA) Permanent Supportive Housing (PSH) Renewal Grants (Notice CPD-19-03); FY 2019 Policy Development and Research Authority to Accept Unsolicited Proposals for Research Partnership Notice; FY 2019 Lead Hazard Reduction Grant Program; FY 2019 Lead, Healthy Homes Technical Studies Grant Program; FY 2019 Comprehensive Housing Counseling Grant Program; FY 2019 Housing Counseling Training Grant and FY 2019 Choice Neighborhoods Planning Grant Program.

For Additional Information, Contact: Office of Strategic Planning and Management, Grants Management and Oversight Division at AskGMO@hud.gov or the contact person listed in each appendix. Hearing- or speech- impaired individuals may access this number via TTY by calling the Federal Information Relay Service, toll-free, at 800-877-8339.

SUPPLEMENTARY INFORMATION: HUD posted its FY 2017 Homeless Management Information System Capacity Building Project (HMIS) NOFA on grants.gov on November 19, 2018, (FR-6100-N-40). The competition closed on January 31, 2019. HUD rated and selected applications for funding based on selection criteria contained in the NOFA. This competition awarded $5,000,000 to 37 recipients to improve their Continuum of Care (CoC's)' Homeless Management Information Systems. Activities that improve HMIS include any one or more of Consolidating HMIS software or databases with another CoC's HMIS; Upgrading, customizing, or configuring the functionality of a CoC's existing HMIS; Improving HMIS data quality; or Increasing staff skills through trainings related to HMIS governance, data collection and data quality improvements, and data analysis to support strategic decision-making. The list of awardees under this NOFA is provided at Appendix A of this notice.

HUD posted its FY 2018/2019 Research and Evaluation, Demonstrations and Data Analysis and Utilization Program (HUDRD) NOFA on grants.gov on April 10, 2019, (FR-6200-N-29). The competition closed on May 24, 2019. HUD rated and selected applications for funding based on selection criteria contained in the NOFA. This competition awarded $2,623,077 to 6 recipients to further PD&R's mission to inform policy development and implementation to improve life in American communities through conducting, supporting, and sharing research, surveys, demonstrations, program evaluations, and best practices. The list of awardees under this NOFA is provided at Appendix B of this notice.

HUD posted its FY 2018 Heathy Homes Production Grant Program for Tribal Housing on grants.gov on June 25, 2019, (FR-6200-N-44). The competition closed on August 9, 2019. HUD rated and selection applications for funding based on selection criteria contained in the NOFA. This competition awarded $5,083,623 to 6 recipients to address multiple childhood diseases and injuries in the home by focusing on housing-related hazards in a coordinated fashion, rather than addressing a single hazard at a time. The program builds upon HUD's experience with Lead Hazard Control programs to expand the Department's efforts to address a variety of high-priority environmental health and safety hazards. The list of awardees under this NOFA is provided at Appendix C of this notice.

HUD posted its FY 2019 Housing Opportunities for Persons with AIDS (HOPWA) Permanent Supportive Housing (PSH) Renewal Grants Notice CPD-19-03 on grants.gov on March 4, 2019, (Notice CPD-19-030). The competition closed on April 12, 2019. HUD rated and selected applications for funding based on selection criteria contained in the NOFA. This competition has awarded $24,735,991 to 25 recipients to pursuant to the authority provided by the Consolidated Appropriations Act, 2019, Public Law 116-6, Div. G, Title II. The Department will renew all eligible expiring HOPWA permanent supportive housing (PSH) competitive grants initially funded with appropriated funds from Fiscal Year 2010 or earlier provided they meet applicable program requirements. The list of awardees under this NOFA is provided at Appendix D of this notice.

HUD posted its FY 2018/2019 Policy Development and Research Authority to Accept Unsolicited Proposals for Research Partnership Notice (USP) on grants.gov on May 21, 2019, (FR-6300-N-USP). The competition closed on December 31, 2020. HUD rated and selected applications were rated and selected for funding based on selection criteria contained in the NOFA. This competition has awarded $427,288 to 3 recipients to allow greater flexibility in addressing important policy questions and to better utilize external expertise in evaluating the local innovations and effectiveness of programs affecting residents of urban, suburban, rural and tribal area. The list of awardees under this NOFA is provided at Appendix E of this notice.

HUD posted its FY 2019 Lead Hazard Reduction Grant Program on grants.gov on June 25, 2019, (FR-6300-N-13). The competition closed on August 9, 2019. HUD rated and selected applications for funding based on selection criteria contained in the NOFA. This competition awarded $313,656,859.14 to 77 recipients to maximize the number of children under the age of six years protected from lead poisoning by assisting states, cities, counties/parishes, Native American Tribes or other units of local government in undertaking comprehensive programs to identify and control lead-based paint hazards in eligible privately-owned rental or owner-occupied housing populations. The list of awardees under this NOFA is provided at Appendix F of this notice.

HUD posted its FY 2019 Healthy Homes Technical Studies Grant Program on grants.gov on June 10, 2019, (FR-6300-N-15), with a pre-application due date of July 11, 2019. The competition full application closed on September 3, 2019. HUD rated and selected applications for funding based on selection criteria contained in the NOFA. This competition awarded $6,405,862 to 7 recipients to gain knowledge to improve the efficacy and cost-effectiveness of methods for evaluation and control of residential lead-based paint hazards. The list of awardees under this NOFA is provided at Appendix G of this notice.

HUD posted its FY 2019 Lead Technical Studies Grant Program on grants.gov on June 10, 2019, (FR-6300-N-15), with a pre-application due date of July 11, 2019. The competition full application closed on September 3, 2019. HUD rated and selected applications d for funding based on selection criteria contained in the NOFA. This competition awarded $1,982,233 to 3 recipients to advance the recognition and control of priority residential health and safety hazards and more closely examine the link between housing and health. The list of awardees under this NOFA is provided at Appendix H of this notice.

HUD posted its FY 2019 Comprehensive Housing Counseling Grant Program on grants.gov on May 24, 2019, (FR-6300-N-33). The competition closed on July 2, 2019. HUD rated and selected applications for funding based on selection criteria contained in the NOFA. This competition awarded $42,841,684 to 207 recipients to provide counseling and advice to tenants and homeowners with respect to property maintenance, financial management and literacy, and such other matters as may be appropriate to help clients improve their housing conditions, meet financial needs, and fulfill the responsibilities of tenancy or homeownership.

HUD posted FY 2019 Housing Counseling Training Grant on grants.gov on August 6, 2019 (FR-6300-N-30). The competition closed on September 5, 2019. HUD rated and selected applications for funding based on selection criteria contained in the NOFA. The competition awarded $2,500,000 to 5 recipients to provide basic housing counseling training and specialized topics to housing counseling agencies to better assist individuals and families. In addition, the grant supports training the agencies on state and local issues and to support the emerging administrative priorities such as HECM default counseling and disaster preparation/recovery classes, both on-line and onsite courses. The list of awardees under this NOFA is provided at Appendix I of this notice.

HUD posted the FY 2019 Choice Neighborhoods Planning Grants competition on grants.gov on April 10, 2019 (FR-6300-N-38). The competition closed on June 10, 2019. HUD rated and selected applications for funding based on selection criteria contained in the NOFA. This competition awarded $5,150,000 to 4 recipients to support the development of comprehensive neighborhood revitalization plans which focused on directing resources to address three core goals: Housing, People and Neighborhoods. To achieve these core goals, communities must develop and implement a comprehensive neighborhood revitalization strategy, or Transformation Plan. The Transformation Plan will become the guiding document for the revitalization of the public and/or assisted housing units while simultaneously directing the transformation of the surrounding neighborhood and positive outcomes for families. The list of awardees under this NOFA is provided at Appendix J of this notice.

In accordance with section 102(a)(4)(C) of the Department of Housing and Urban Development Reform Act of 1989 (103 Stat. 1987, 42 U.S.C. 3545(a)(4)(C)), the Department is publishing the awardees and the amounts of the awards in Appendices A through J to this document.

Dated: March 27, 2020.
Dorthera Yorkshire,
Director, Grants Management and Oversight.

Appendix A

FY2017 Homeless Management Information System Capacity Building Project

Contact: Abbilyn Miller, (212) 542-7120

Legal name | Address line 1 | Address line 2 | City | State | Zip 5 | Zip 4 | Award amount
Alabama rural Coalition for the Homeless, Inc | 4120 Wall Street |  | Montgomery | AL | 36106 | 2861 | $121,380
Broward County, FL | 115 S Andrews Avenue | Room 409 | Fort Lauderdale | FL | 33301 | 1801 | 126,498
CARES of NY, Inc | 200 Henry Johnson Boulevard | Suite 4 | Albany | NY | 12210 | 1550 | 100,000
Changing Homelessness, Inc | 660 Park Street |  | Jacksonville | FL | 32204 | 2933 | 104,500
City of Amarillo | 808 S Buchanan St | Community Development Department | Amarillo | TX | 79105 | 1971 | 143,860
City of Boston | 26 Court Street | Supportive Housing | Boston | MA | 2108 | 2501 | 150,000
City of Lowell | 50 Arcand Drive |  | Lowell | MA | 1852 | 1803 | 150,000
City of Topeka | 620 SE Madison, 1st Floor, Unit 8 | Housing Services | Topeka | KS | 66607 | 1149 | 102,685
Commonwealth of Massachusetts | 100 Cambridge Street | Suite 300 | Boston | MA | 2114 | 2531 | 150,000
Community Action Partnership of Oregon (CAPO) | 350 Mission Street SE, Suite 201 |  | Salem | OR | 97302 | 6302 | 150,000
Community Council of St. Charles County | P.O. Box 219 |  | Cottleville | MO | 63338 | 219 | 149,550
County of Chester | 313 W Market St | Suite 6202 | West Chester | PA | 19380 | 991 | 150,000
County of Santa Barbara | 123 E Anapamu St., Suite 202 |  | Santa Barbara | CA | 93101 | 2025 | 133,564
County of Shasta | 1450 Court Street, Suite 108 | Community Action | Redding | CA | 96001 | 1661 | 170,300
Homeward | 9211 Forest Hill Ave | Ste. 200 | Richmond | VA | 23235 | 0 | 91,977
Lee County | 2115 Second St |  | Fort Myers | FL | 33901 | 3070 | 84,900
Little Rock Community Mental Health Center, Inc | 1100 North University Avenue, Suite 201 |  | Little Rock | AR | 72207 | 6359 | 136,295
Los Angeles Homeless Services Authority | 811 Wilshire Blvd., 6th Floor | Data Management | Los Angeles | CA | 90017 | 2606 | 150,000
Lynn Housing Authority & Neighborhood Development (LHAND) | 10 Church Street |  | Lynn | MA | 1902 | 4418 | 33,383
Mendocino County Health & Human Services Agency | Mendocino County Health & Human Services Agency | 747 S State Street | Ukiah | CA | 95482 | 5815 | 150,000
Metropolitan Social Services of Nashville & Davidson County | P.O. Box 196300 | Homeless Impact Division | Nashville | TN | 37219 | 6300 | 150,000
Mid-America Regional Council Community Services Corporation | 600 Broadway, Suite 200 |  | Kansas City | MO | 64105 | 1659 | 150,000
Monroe County Homeless Services Continuum of Care, Inc. | P.O. Box 2410 | HMIS | Key West | FL | 33045 | 2410 | 55,100
Montgomery County Maryland | 101 Monroe Street | SEPH | Rockville | MD | 20850 | 2503 | 150,000
Murfreesboro, City of | 111 W Vine St |  | Murfreesboro | TN | 37130 | 3573 | 146,300
North Alabama Coalition for the Homeless, Inc | 1580 Sparkman Dr., Suite 111 |  | Huntsville | AL | 35816 | 2680 | 150,000
North Dakota Coalition for Homeless People | 417 Main Ave., #206 | P.O. Box 1483 | Fargo | ND | 58107 | 1483 | 99,435
One Roof, Inc | 1515 6th Ave. S | HMIS | Birmingham | AL | 35233 | 1601 | 135,368
Partners for HOME | 55 Trinity Avenue |  | Atlanta | GA | 30303 | 3520 | 150,000
Project NOW, Inc | 418 19th St | Homeless | Rock Island | IL | 61201 | 8123 | 128,909
Sonoma County Community Development Commission | 1440 Guerneville Road |  | Santa Rosa | CA | 95403 | 4107 | 131,019
South Dakota Housing Development Authority | 3060 East Elizabeth Street |  | Pierre | SD | 57501 | 1237 | 140,150
Suncoast Partnership to End Homelessness, Inc | 1750 17th Street-C1 |  | Sarasota | FL | 34234 | 8666 | 257,457
Tarrant County Homeless Coalition | 300 S Beach Street |  | Fort Worth | TX | 76105 | 1158 | 150,000
The Appalachian Regional Coalition on Homelessness | 321 W Walnut St |  | Johnson City | TN | 37604 | 6774 | 150,000
Rochester/Monroe County Homeless Continuum of Care, Inc | 560 West Main Street |  | Rochester | NY | 14608 | 1949 | 157,370
City of Springfield | 36 Court St |  | Springfield | MA | 11030 | 1602 | 150,000
Total |  |  |  |  |  |  | 5,000,000

Appendix B

FY2018/2019 Research and Evaluation, Demonstrations and Data Analysis and Utilization Program (HUDRD)

Contact: Carol Gilliam, (202) 402-4354.

Organization name | Street address | City | State | Zip code | Award amount
University of Iowa | 2 Gilmore Hall | Iowa City | IA | 52242-1320 | $850,000
Enterprise Community Partners, Inc | 11000 Broken Land Parkway, Suite 700 | Columbia | MD | 21044-3535 | 350,000
Newport Partners LLC | 3760 Tanglewood Lane | Davidsonville | MD | 21035 | 373,077
University of Florida | 207 Grinter Hall, P.O. Box 115500 | Gainesville | FL | 32611 | 250,000
Home Innovation Research Labs, Inc | 400 Prince Georges Blvd | Upper Marlboro | MD | 20774 | 400,000
Colorado State University | 1372 Campus Delivery | Fort Collins | CO | 80523 | 400,000
Total |  |  |  |  | 2,623,077

Appendix C

FY2018 Heathy Homes Production Grant Program for Tribal Housing

Contact: Michelle Miller, (202) 402-5769.

Organization name | Address | City | State/ province | Zip/postal code | Federal ($)
Native Village of Buckland | P.O. Box 67 | Buckland | AK | 99727 | $625,000.00
Tlingit Haida Regional Housing Authority | 5446 Jenkins Drive | Juneau | AK | 99803 | 1,000,000.00
Alaska Native Tribal Health Consortium | 4000 Ambassador Drive | Anchorage | AK | 99508-5909 | 999,827.00
Saint Regis Mohawk Tribe | 412 State Route 37 | Hogansburg | NY | 13655 | 1,000,000.00
Kenaitze Salamatof Tribal Designated Housing | P.O. Box 988 | Kenai | AK | 99611-0988 | 913,086.00
Sisseton-Wahpeton Oyate | 12554 BIA Hwy. 711 | Agency Village | SD | 57262-0509 | 545,710.00
Total |  |  |  |  | 5,083,623.00

Appendix D

FY2019 Housing Opportunities for Persons With AIDS (HOPWA) Permanent Supportive Housing (PSH) Renewal Grants

Contact: Claire Donze, (202) 402-2365.

Organization name | Address | City | State | Zip code | Award amount
AIDS Alabama | 3529 7th Avenue South | Birmingham | AL | 35222-3210 | $853,252.00
Alameda County | 224 W Winton Ave., Room 108 | Hayward | CA | 94544-1215 | 1,483,094.00
Bernal Heights Neighborhood Center | 515 Cortland Ave | San Francisco | CA | 94110-5611 | 473,217.00
City and County of San Francisco | 1 S Van Ness Ave., 5th Floor | San Francisco | CA | 94103-1267 | 1,430,000.00
City of Baltimore | 7 E Redwood Street, 5th Floor | Baltimore | MD | 21202-1108 | 1,405,950.00
City of Dallas | 1500 Marilla 4EN | Dallas | TX | 75201-6318 | 746,853.00
City of Key West | 1400 Kennedy Drive | Key West | FL | 33040-4008 | 1,430,000.00
City of San Jose | 200 East Santa Clara Street | San Jose | CA | 95113-1903 | 1,256,461.00
City of Savannah, Daniel Flagg Villas | 1375 Chatham Parkway | Savannah | GA | 31405-0304 | 249,432.00
City of Savannah, Project House Call | 1375 Chatham Parkway | Savannah | GA | 31405-0304 | 671,776.00
Clare Housing | 929 Central Avenue NE | Minneapolis | MN | 55413-2404 | 951,376.00
Connections Community Support Programs | 3821 Lancaster Pike | Wilmington | DE | 19805-1512 | 757,211.00
Cornerstone Services, Inc | 777 Joyce Road | Joliet | IL | 60436-1877 | 856,220.00
Del Norte Neighborhood Development Corp | 3275 W 14th Ave., #202 | Denver | CO | 80204-2232 | 612,379.00
Frannie Peabody Center | 30 Danforth Street, Suite 311 | Portland | ME | 04101-4574 | 1,406,578.00
Health Care for Homeless, Inc | 421 Fallsway | Baltimore | MD | 21202-4800 | 1,261,949.00
Health Services Center, Inc | 608 Martin Luther King Drive, P.O. Box 1347 | Anniston | AL | 36202 | 855,617.00
I.M. Sulzbacher | 611 East Adams Street | Jacksonville | FL | 32202-2847 | 1,215,572.00
Justice Resource Institute | 160 Gould Street, Suite 300 | Needham | MA | 02494-2300 | 1,377,743.00
Kentucky Housing Corporation | 1231 Louisville Rd | Franfort | KY | 40601-6156 | 431,467.00
Oregon Health Authority | 800 NE Oregon Street, Suite 1105 | Portland | OR | 97232-2187 | 1,214,853.00
Our House of Portland | 2727 SE Alder Street | Portland | OR | 97214-3015 | 1,016,409.00
The State of Rhode Island Office of Housing and Community Development (New Transitions) | One Capitol Hill | Providence | RI | 02908-5873 | 741,355.00
The State of Rhode Island Office of Housing and Community Development (Sunrise Project) | One Capitol Hill | Providence | RI | 02908-5873 | 1,240,606.00
Unity of Greater New Orleans | 2475 Canal Street, Suite 300 | New Orleans | LA | 70119-6555 | 796,621.00
Total |  |  |  |  | 24,735,991.00

Appendix E

FY2018/2019 Policy Development & Research Authority To Accept Unsolicited Proposals for Research Partnership Notice

Contact: Carol Gilliam, (202) 402-4354.

Organization name | Street address | City | State | Zip code | Award amount
German Marshall Fund of the United States | 1744 R Str | Washington | DC | 20009 | $204,260
Abt Associates | 6130 Executive Blvd | Rockville | MD | 20852 | 98,028
New York University Furman Center for Real Estate and Urban Policy | 139 MacDougal Street, 2nd Floor | New York | NY | 10012 | 125,000
Total |  |  |  |  | 427,288

Appendix F

FY2019 Lead Hazard Reduction Grant Program

Contact: Yolanda A. Brown, (202) 402-5769.

Organization name | Address | City | State/province | Zip/postal code | Federal ($)
City of San Antonio | 1400 South Flores | San Antonio | TX | 78204 | $4,600,000.00
City of New Haven | 54 Meadow Street, 9th Floor | New Haven | CT | 06519 | 5,600,000.00
City of Lynn | 10 Church Street | Lynn | MA | 01902 | 9,304,184.00
County of Peoria | 2116 N Sheridan Road | Peoria | IL | 61604-3457 | 5,600,000.00
Jefferson Parrish | 1221 Elmwood Park Boulevard, Suite 605 | Jefferson | LA | 70123-2337 | 3,300,000.00
County of Montgomery | 425 Swede Road, P.O. Box 311 | Norristown | PA | 194040311 | 1,800,000.00
City of Woonsocket | 169 Main Street | Woonsocket | RI | 2895 | 4,000,000.00
City of Elmira | 317 E Churst St | Elmira | NY | 14901-2718 | 1,293,388.00
City of East Orange | 44 City Hall Plaza | East Orange | NJ | 07018-4502 | 3,300,000.00
City of Cleveland | 601 Lakeside Avenue, Room 320 | Cleveland | OH | 44114-1015 | 9,700,000.00
County of Bergen | 1 Bergen County Plz., Rm 1 | Hackensack | NJ | 07601-7075 | 3,300,000.00
Onondaga County | 1100 Civic Center | Syracuse | NY | 13202 | 5,600,000.00
County of Tulsa | 5051 South 129th E Ave | Tulsa | OK | 74134-7004 | 1,226,891.00
City of Milwaukee | 841 N Broadway | Milwaukee | WI | 53202 | 5,600,000.00
State of Georgia | 2 Peachtree Street NW | Atlanta | GA | 30303 | 3,300,000.00
County of Delaware | 201 W Front Street | Media | PA | 19063-2561 | 1,000,000.00
City of Rochester | 30 Church St | Rochester | NY | 14614 | 5,600,000.00
State of Pennsylvania | 625 Forster Street, 7th Floor | Harrisburg | PA | 17120-0701 | 2,900,000.00
City of Worcester | 455 Main Street—Suite 405 | Worcester | MA | 01608 | 5,600,000.00
City of Spartanburg | 145 West Broad Street | Spartanburg | SC | 29306-3210 | 1,299,964.00
City of Lewiston | 27 Pine Street | Lewiston | ME | 04240-7204 | 5,206,649.00
City of Hialeah | 501 Palm Avenue First Floor, Grants Dept | Hialeah | FL | 33010-4719 | 3,300,000.00
East Central Intergovernmental Association | 7600 Commerce Park | Dubuque | IA | 520029673 | 3,299.996.14
County of McHenry | 2200 North Seminary Avenue | Woodstock | IL | 600982637 | 2,247,969.00
City of Biddeford | 205 Main Street | Biddeford | ME | 04005-0001 | 3,246,744.00
Hennepin County | 701 4th Ave. S, Suite 400 | Minneapolis | MN | 55415 | 5,600,000.00
City of Harrisburg | 10 North Second Street, Suite 206 | Harrisburg | PA | 17101 | 5,600,000.00
State of Louisiana | 1450 Poydras Street, Suite 2046 | New Orleans | LA | 70112-2016 | 3,300,000.00
County of Fresno | 1221 Fulton Mall | Fresno | CA | 93721-3604 | 3,000,000.00
City of Memphis | 170 N Main Street, 3rd Fl | Memphis | TN | 38103-1877 | 5,600,000.00
City of Columbus | 111 N Front Street, 3rd Floor | Columbus | OH | 43215 | 5,600,000.00
Erie County (NY) | 95 Franklin St | Buffalo | NY | 14202 | 5,600,000.00
Mahoning County | 21 West Boardman Street | Youngstown | OH | 44503 | 4,600,000.00
Montgomery County (TX) | 501 N Thompson, Suite 200 | Conroe | TX | 77301-2500 | 1,000,000.00
City of Charlotte | 600 East Trade St | Charlotte | NC | 28202 | 3,635,222.00
City of Boston | 26 Central Avenue | Hyde Park | MA | 2136 | 4,342,674.00
Maine State Housing Authority | 353 Water Street | Augusta | ME | 04330 | 3,818,377.00
City of Tucson | 310 N Commerce Park Loop | Tucson | AZ | 85745 | 3,953,630.00
Baltimore City | 417 E Fayette Street | Baltimore | MD | 21202 | 9,700,000.00
Winnebago County | 401 Division Street | Rockford | IL | 61104-2014 | 3,411,839.00
New Castle County | 77 Reads Way | New Castle | DE | 19720-1648 | 3,300,000.00
City of Grand Rapids | 300 Monroe Ave. NW | Grand Rapids | MI | 49503 | 4,231,677.00
City of Pomona | 505 S Garey Avenue, P.O. Box 660 | Pomona | CA | 91766-3322 | 4,600,000.00
City of Wilmington (NC) | 305 Chestnut St., Post Office Box 1810 | Wilmington | NC | 28402-1810 | 1,800,000.00
City of Houston | 8000 N Stadium Drive, 2nd Fl | Houston | TX | 77054 | 9,700,000.00
County of Erie (OH) | 2900 Columbus Avenue | Sandusky | OH | 44870 | 3,828,430.00
City of Detroit | 2 Woodward Ave., Suite 908 | Detroit | MI | 48226 | 9,700,000.00
Commonwealth of Virginia | 501 N Second Street | Richmond | VA | 23219 | 5,600,000.00
Cuyahoga County | 5550 Venture Drive | Parma | OH | 44130 | 5,600,000.00
City of Canton | 218 Cleveland Ave. SW, P.O. Box 24218 | Canton | OH | 44701-4218 | 3,300,000.00
State of Minnesota | 625 Robert Street North, P.O. Box 64975 | St. Paul | MN | 55164-0975 | 3,300,000.00
City of Norwich | 23 Union Street | Norwich | CT | 06360 | 2,955,058.00
City of Jackson | 219 South President Street | Jackson | MS | 39205-0017 | 1,800,000.00
City of Tuscaloosa | 2201 University Blvd | Tuscaloosa | AL | 35401-1752 | 2,999,871.00
City of Portland (ME) | 389 Congress Street | Portland | ME | 04101-3571 | 2,541,696.00
Genesee County | 3837 West Main St. Rd | Batavia | NY | 14020-9404 | 1,300,000.00
Township of Irvington | One Civic Square Municipal Building | Irvington | NJ | 07111-2497 | 3,300,000.00
Chesterfield County | P.O. Box 40 | Chesterfield | VA | 23832-0903 | 1,580,285.00
County of Alameda | 2000 Embarcadero, Ste. 300 | Oakland | CA | 94606 | 3,600,000.00
County of Niagara | 5467 Upper Mountain Road | Lockport | NY | 14094-1894 | 2,750,000.00
City of Warren | One City Square, Suite 210 | Warren | MI | 48093-5290 | 1,300,000.00
County of Bucks | 1260 Almshouse Rd | Doylestown | PA | 18901-2886 | 1,563,106.00
City of Lancaster | 120 North Duke Street | Lancaster | PA | 17602-1599 | 9,700,000.00
Rhode Island Housing and Mortgage Finance Corporation | 44 Washington Street | Providence | RI | 02903 | 8,440,960.00
City of Akron | 166 South High Street, Room 100 | Akron | OH | 44308 | 4,600,000.00
County of Cerro Gordo | 2570 4th Street SW | Mason City | IA | 50401-3435 | 2,975,961.00
Salt Lake County | 2001 South State Street | Salt Lake City | UT | 84190-2770 | 5,125,207.00
Maricopa County | 234 N Central Ave., Third Floor | Phoenix | AZ | 85004-2256 | 1,782,710.00
City of Oklahoma City | 420 W Main Street, Suite 920 | Oklahoma City | OK | 73102-4437 | 2,000,000.00
City of Quincy | 1305 Hancock Street | Quincy | MA | 02169 | 300,000.00
Summit County | 1867 West Market Street | Akron | OH | 44313-6901 | 5,600,000.00
City of Lima | 50 Town Square | Lima | OH | 45801-4900 | 2,000,000.00
City of Los Angeles | 1200 W 7th Street | Los Angeles | CA | 90017 | 5,600,000.00
Department of Energy and Environment | 1200 First Street NE, 5th Floor | Washington | DC | 20002-7957 | 3,594,371.00
City of Waco | 300 Austin Ave | Waco | TX | 76702-2209 | 2,300,000.00
City of Newark (NJ) | 110 William Street | Newark | NJ | 07102 | 5,600,000.00
Vermont Housing and Conservation Board | 58 East State Street | Montpelier | VT | 05602 | 4,000,000.00
Total |  |  |  |  | 313,656,859.14

Appendix G

FY2019 Healthy Homes Technical Studies Grant

Contact: Dr. Peter J. Ashley, (202) 402-7595.

Organization name | Address | City | State | Zip | Award
The George Washington University | 1922 F Street NW, 4th Floor | Washington | DC | 20052 | $850,000
Illinois Institute of Technology | 10 West 35th Street | Chicago | IL | 60616 | 1,000,000
The Board of Trustees of the University of Illinois | MB 502, M/C 551, 809 S Marshfield Avenue | Chicago | IL | 60612 | 999,999
University of Massachusetts, Lowell | One University Avenue | Lowell | MA | 01854 | 999,999
National Center for Healthy Housing Inc | 10320 Little Patuxent Parkway, Suite 500 | Columbia | MD | 21044 | 799,999
North Carolina State University | 2701 Sullivan Drive, Admin Services III, Box 7514 | Raleigh | NC | 27695 | 999,295
Virginia Polytechnic Institute and State University | 300 Turner St. NW, Suite 4200 | Blacksburg | VA | 24061 | 756,570
Total |  |  |  |  | 6,405,862

Appendix H

FY2019 Lead Technical Studies

Contact: Dr. Peter J. Ashley, (202) 402-7595.

Organization name | Address | City | State | Zip | Award
The Board of Trustees of the University of Illinois | MB 502, M/C 551, 809 S Marshfield Avenue | Chicago | IL | 60612 | $700,000
Trustees of Boston University | 85 East Newton Street, M-921 | Boston | MA | 02118 | 670,799
QuanTech, Inc | 6110 Executive Blvd., Ste. 480 | Rockville | MD | 20852 | 611,534
Total |  |  |  |  | 1,982,333

Appendix I

FY2019 Comprehensive Housing Counseling Grant Program

Contact: Joel Schumacher, (212) 542-7311.

Grantee name | Address | City | State | Zip | Amount
UNIDOS US | 1126 16th St., NW | Washington | DC | 20036 | $1,930,487
NEIGHBORHOOD REINVESTMENT CORP. DBA NEIGHBORWORKS AMERICA | 999 North Capitol Street NE, Suite 900 | Washington | DC | 20002 | 3,000,000
RURAL COMMUNITY ASSISTANCE CORPORATION | 3210 Freeboard Drive, Suite 201 | West Sacramento | CA | 95691 | 713,236
NATIONAL CAPACD | 1628—16th St. NW, 4th Floor | Washington | DC | 20009 | 421,199
THE HOUSING PARTNERSHIP NETWORK | One Washington Mall, 12th Floor | Boston | MA | 02108 | 596,921
HOUSING ACTION ILLINOIS | 67 E Madison Street, Suite 1603 | CHICAGO | IL | 60603 | 1,200,141
NEIGHBORHOOD STABILIZATION CORPORATION (NACA COUNSELING SUBSIDIARY) | 225 Centre Street, Suite 100 | Boston | MA | 02119 | 2,579,917
HOMEFREE—U S A | 6200 Baltimore Avenue | Riverdale | MD | 20737 | 1,918,848
GREENPATH, INC | 36500 Corporate Drive | Farmington Hills | MI | 48331 | 2,136,790
MINNESOTA HOMEOWNERSHIP CENTER | 1000 Payne Avenue, Suite 200 | Saint Paul | MN | 55130 | 600,696
MISSISSIPPI HOMEBUYER EDUCATION CENTER—INITIATIVE | 350 West Woodrow Wilson Avenue, Suite 3480 | Jackson | MS | 39213 | 294,910
TELAMON CORPORATION | 5560 Munford Rd., Suite 201 | Raleigh | NC | 27612 | 394,964
GARDEN STATE CONSUMER CREDIT COUNSELING, INC. D/B/A/NAVICORE SOLUTIONS | 200 US Highway 9 North | Manalapan | NJ | 07726 | 556,769
HOUSING & COMMUNITY DEVELOPMENT NETWORK OF NEW JERSEY | 145 W Hanover Street | Trenton | NJ | 08618 | 288,223
NATIONAL URBAN LEAGUE | 80 Pine Street, 9th Floor | NY | NY | 10005 | 871,183
NUEVA ESPERANZA, INC | 4261 North 5th Street | Philadelphia | PA | 19140 | 633,037
UNITED WAY OF CENTRAL ALABAMA, INC | 3600 8th Avenue South Community Initiatives | Birmingham | AL | 35222 | 450,446
NATIONAL ASSOCIATION OF REAL ESTATE BROKERS—INVESTMENT DIVISION, INC | 7677 Oakport Street, Suite 1030 | Oakland | CA | 94621 | 1,129,222
NORTH CAROLINA HOUSING COALITION | 5800 Faringdon Place | Raleigh | NC | 27609 | 764,695
MON VALLEY INITIATIVE | 303-305 E Eighth Avenue Housing Counseling | Homestead | PA | 15120 | 605,606
CONSUMER CREDIT COUNSELING SERVICES OF SAN FRANCISCO D/B/A BALANCE | 1655 Grant St., Suite #1300 | Concord | CA | 94520 | 695,828
WEST TENNESSEE LEGAL SERVICES, INCORPORATED | 210 WEST MAIN STREET | Jackson | TN | 38301 | 789,130
NATIONAL COMMUNITY REINVESTMENT COALITION, INC | 740 15th Street NW, Suite 400 | Washington | DC | 20005 | 988,833
CATHOLIC CHARITIES USA | 2050 Ballenger Ave., Suite 400 | Alexandria | VA | 22314 | 936,211
HOUSING OPTIONS PROVIDED FOR THE ELDERLY (HOPE) | 7300 Dartmouth Ave., Suite 100 | University City | MO | 63130 | 174,988
NATIONAL FOUNDATION FOR CREDIT COUNSELING, INC | 2000 M Street NW, Suite 505 | Washington | DC | 20036 | 876,867
NEW YORK MORTGAGE COALITION | 85 Broad Street, 17th Floor | New York | NY | 10004 | 370,944
CITIZENS' HOUSING AND PLANNING ASSOCIATION, INC | One Beacon Street, 5th Floor | Boston | MA | 02108 | 628,335
MONEY MANAGEMENT INTERNATIONAL INC | 14141 SW Freeway, Suite 1000 | Sugar Land | TX | 77478 | 1,118,715
MONTANA HOMEOWNERSHIP NETWORK DBA NEIGHBORWORKS MONTANA | 509 1st Ave. South | Great Falls | MT | 59401 | 443,184
CREDIT.ORG | 4351 Latham Street | Riverside | CA | 92501 | 307,019
CONSUMER CREDIT COUNSELING SERVICE OF MARYLAND AND DELAWARE, INC. (CCCSMD—FORMERLY GUIDEWELL) | 6315 Hillside Court, Suite B | Columbia | MD | 21046 | 392,706
PATHSTONE CORPORATION | 400 East Ave., Housing Division | Rochester | NY | 14607 | 289,495
HOME PARTNERSHIP, INC. (HPI) | Home Partnership Inc., 626 Towne Centere Dr., Suite 102 | Joppa | MD | 21085 | 29,726
HOUSING AUTHORITY OF MINGO COUNTY | 5026 Helena Avenue | Delbarton | WV | 25670 | 19,226
HOUSING COUNSELING SERVICES, INCORPORATED (HSC, INC.) | 2410 17th Street NW, Suite 100 | Washington | DC | 20009 | 129,364
HOUSING INITIATIVE PARTNERSHIP, INC. (HIP) | 6525 Belcrest Road, Suite 555 | Hyattsville | MD | 20782 | 72,628
PRO-HOME, INC | 40 Summer Street | Taunton | MA | 02780 | 20,527
SPRINGFIELD PARTNERS FOR COMMUNITY ACTION | 721 State Street | Springfield | MA | 01109 | 16,821
SHORE UP!, INC | 520 Snow Hill Road | Salisbury | MD | 21804 | 15,174
SOUTHERN MARYLAND TRI-COUNTY COMMUNITY ACTION | 8371 Old Leonardtown Rd., P.O. Box 280 | Hughesville | MD | 20637 | 29,181
FREDERICK COMMUNITY ACTION AGENCY (FCAA) | 100 South Market Street | Frederick | MD | 21701 | 34,530
WASHINGTON COUNTY COMMUNITY ACTION COUNCIL (WCCAC) | 117 Summit Ave | Hagerstown | MD | 21740 | 32,535
NORTHWEST MICHIGAN COMMUNITY ACTION AGENCY, INC | 3963 Three Mile Road Financial Management Services | Traverse City | MI | 49686 | 33,981
OAKLAND LIVINGSTON HUMAN SERVICE AGENCY | 196 Cesar E. Chavez Ave., P.O. Box 430598 | Pontiac | MI | 48343 | 22,314
OAKLAND COUNTY HOUSING COUNSELING | Oakland County Community & Home Improvement, 250 Elizabeth Lake Rd., Suite 1900 | Pontiac | MI | 48341 | 43,035
NORTH HUDSON COMMUNITY ACTION CORPORATION | 800—31st Street | Union City | NJ | 07087 | 16,272
HOUSING AUTHORITY OF THE CITY OF PATERSON | 60 Van Houten St | Paterson | NJ | 07505 | 16,272
SENIOR CITIZENS UNITED COMMUNITY SERVICES OF CAMDEN COUNTY, INC | 537 Nicholson Road | Audubon | NJ | 08106 | 32,740
ROCKAWAY DEVELOPMENT AND REVITALIZATION CORPORATION | 1920 Mott Avenue, 2nd Floor | Far Rockaway | NY | 11691 | 15,174
STRYCKER'S BAY NEIGHBORHOOD COUNCIL, INC | 696 Amsterdam Ave | New York | NY | 10025 | 11,878
CENTER FOR NEW YORK CITY NEIGHBORHOODS | 55 Broad Street, 10th Floor | New York | NY | 10004 | 34,661
WEST OHIO COMMUNITY ACTION PARTNERSHIP | 540 S Central Ave., Housing Counseling | Lima | OH | 45804 | 21,626
WORKING IN NEIGHBORHOODS | 1814 Dreman Avenue | Cincinnati | OH | 45223 | 24,372
WSOS COMMUNITY ACTION COMMISSION, INC | 127 South Front Street, P.O. Box 590 | Fremont | OH | 43420 | 14,075
YOUNGSTOWN METROPOLITAN HOUSING AUTHORITY | 131 W Boardman Street | Youngstown | OH | 44503 | 19,568
PENNSYLVANIA COMMUNITY REAL ESTATE CORP. D/B/A TENANT UNION REPRESENTATIVE NETWORK (T.U.R.N.) | 100 South Broad Street, Suite 800 | Philadelphia | PA | 19110 | 33,815
WESTMORELAND COMMUNITY ACTION | 226 South Maple Avenue | Greensburg | PA | 15601 | 20,734
PROVIDENCE HOUSING AUTHORITY | 100 Broad Street, Resident Services | Providence | RI | 02903 | 18,469
YOUNGSTOWN NEIGHBORHOOD DEVELOPMENT CORP | 820 Canfield Road | Youngstown | OH | 44511 | 25,471
HOUSING SERVICES MID MICHIGAN (FORMERLY HOUSING SERVICES FOR EATON COUNTY) | 319 S Cochran Ave | Charlotte | MI | 48813 | 30,824
INTERCOMMUNITY ACTION, INC. D/B/A INTERACT, JOURNEY'S WAY | 6012 Ridge Ave., Journey's Way | Philadelphia | PA | 19128 | 15,583
MARSHALL HEIGHTS COMMUNITY DEVELOPMENT ORGANIZATION | 3939 Benning Road NE | Washington | DC | 20019 | 25,471
NIAGARA FALLS NEIGHBORHOOD HOUSING SERVICES | 479 16th Street | Niagara Falls | NY | 14303 | 17,920
ACTION FOR BOSTON COMMUNITY DEVELOPMENT, INC | 178 Tremont Street | Boston | MA | 02111 | 23,134
ALLEGANY COUNTY COMMUNITY OPPORTUNITIES AND RURAL DEVELOPMENT (ACCORD) CORP | 84 Schuyler Street, P.O. Box 573 | Belmont | NY | 14813 | 39,334
ARUNDEL COMMUNITY DEVELOPMENT SERVICE INC | 2666 Riva Road, Suite #210 | Annapolis | MD | 21401 | 29,587
BAY AREA HOUSING, INC. D/B/A COMMUNITY HOME SOLUTIONS | 114 Washington Avenue, Counseling Division | Bay City | MI | 48708 | 27,119
ALLEGANY COUNTY HUMAN RESOURCES DEVELOPMENT COMMISSION, INC | 125 Virginia Ave | Cumberland | MD | 21502 | 22,314
BENNINGTON-RUTLAND OPPORTUNITY COUNCIL, INC. (BROC) | 45 Union Street | Rutland | VT | 05701 | 40,638
CATHOLIC SOCIAL SERVICES—FALL RIVER | 1600 Bay Street | Fall River | MA | 02724 | 33,432
COUNTYCORP | 130 W Second St., Suite 1420 | Dayton | OH | 45402 | 37,135
COMMUNITY ACTION AGENCY | 1214 Greenwood Avenue | Jackson | MI | 49203 | 27,668
COMMUNITY RENEWAL TEAM, INC | 555 Windsor Street | Hartford | CT | 06120 | 19,568
COMMUNITY SERVICE NETWORK, INC | Mailing: 52 Broadway Physical: 136 Elm Street, Second Floor | Stoneham | MA | 02180 | 26,837
COMPREHENSIVE HOUSING ASSISTANCE, INC | 5809 Park Heights Avenue | Baltimore | MD | 21215 | 23,274
COMMUNITY HOUSING SOLUTIONS | 12114 Larchmere Boulevard | Cleveland | OH | 44120 | 23,823
DIVERSIFIED HOUSING DEVELOPMENT, INC | 8025 Liberty Road | Windsor Mill | MD | 21244 | 26,227
FAIR HOUSING CONTACT SERVICE | 441 Wolf Ledges Parkway, Suite 200 | Akron | OH | 44311 | 30,682
FAIR HOUSING RESOURCE CENTER | 1100 Mentor Avenue | Painesville | OH | 44077 | 31,234
GARWYN OAKS NORTHWEST HOUSING RESOURCE CENTER, INC | 2300 Garrison Blvd., Suite 140 | Baltimore | MD | 21216 | 23,620
GRAND RAPIDS URBAN LEAGUE | 745 Eastern Avenue SE, Center for Housing | Grand Rapids | MI | 49503 | 27,389
GREATER SHEEPSHEAD BAY DEVELOPMENT CORPORATION | 2107 East 22nd Street | Brooklyn | NY | 11229 | 10,230
HAGERSTOWN NEIGHBORHOOD DEVELOPMENT PARTNERSHIP, INC. (HNDP) | 21 East Franklin Street | Hagerstown | MD | 21795 | 27,119
HARFORD COUNTY HOUSING AGENCY | 220 S Main Street Housing Counseling | Bel Air | MD | 21014 | 41,390
HISPANIC ASSOCIATION OF CONTRACTORS AND ENTERPRISES | 167 W. Allegheny Avenue, Suite 200 | Philadelphia | PA | 19140 | 47,444
CONSUMER CREDIT AND BUDGET COUNSELING, DBA NATIONAL FOUNDATION FOR DEBT MANAGEMENT | 299 Shore Road, US Route 9 South | Marmora | NJ | 08223 | 158,547
CENTRO DE APOYO FAMILIAR—CENTER FOR ASSISTANCE FAMILIES | 6801 Kenilworth Avenue, Suite 110, Asset Building | Riverdale | MD | 20737 | 62,081
MICHIGAN STATE HOUSING DEVELOPMENT AUTHORITY | 735 E. Michigan Avenue, P.O. Box 30044 | Lansing | MI | 48912 | 644,716
NEW JERSEY HOUSING AND MORTGAGE FINANCE AGENCY | 637 South Clinton Avenue | Trenton | NJ | 08650 | 250,530
NEW YORK STATE HOUSING FINANCE AGENCY | 641 Lexington Avenue | New York | NY | 10022 | 953,521
CONNECTICUT HOUSING FINANCE AUTHORITY | 999 West Street | Rocky Hill | CT | 06067 | 140,723
MAINE STATE HOUSING AUTHORITY | 353 Water Street | Augusta | ME | 04330 | 29,021
VIRGINIA HOUSING DEVELOPMENT AUTHORITY | 601 S. Belvidere St | Richmond | VA | 23220 | 1,169,727
NEW HAMPSHIRE HOUSING FINANCE AUTHORITY | 32 Constitution Drive | Bedford | NH | 03110 | 176,256
PENNSYLVANIA HOUSING FINANCE AGENCY | 211 North Front Street | Harrisburg | PA | 17101 | 1,622,362
REFUGEE FAMILY ASSISTANCE PROGRAM | 5405 Memorial Dr., Suite 101 | Stone Mountain | GA | 30083 | 25,336
SUMMECH COMMUNITY DEVELOPMENT CORPORATION, INC | 633 Pryor Street SW | Atlanta | GA | 30312 | 17,781
OCALA HOUSING AUTHORITY | P.O. Box 2468,1629 NW 4th ST | Ocala | FL | 34478 | 48,525
HOOSIER UPLANDS ECONOMIC DEVELOPMENT CORPORATION | 500 W. Main St | Mitchell | IN | 47446 | 20,527
HOUSING AUTHORITY OF THE CITY OF GREENSBORO D/B/A GREENSBORO HOUSING AUTHORITY | 450 N. Church Street | Greensboro | NC | 27401 | 28,627
HOUSING AUTHORITY OF THE CITY OF HIGH POINT | 500 E. Russell Ave | High Point | NC | 27260 | 17,576
HOUSING EDUCATION AND ECONOMIC DEVELOPMENT, INC | 3405 Medgar Evers Blvd | Jackson | MS | 39213 | 30,890
OPA-LOCKA COMMUNITY DEVELOPMENT CORPORATION | 490 Opa-locka Boulevard, Suite 20 | Opa-locka | FL | 33054 | 29,177
SOLITA'S HOUSE INC | 3101 E 7th Ave | Tampa | FL | 33605 | 35,629
ST. JOHNS COUNTY BOARD OF COUNTY COMMISSIONERS | 500 San Sebastian View Housing & Community Development | St. Augustine | FL | 32084 | 25,610
STEP UP SUNCOAST, INC. F/K/A MANATEE COMMUNITY ACTION AGENCY, INC | 6428 Parkland Dr | Sarasota | FL | 34243 | 16,272
TALLAHASSEE URBAN LEAGUE, INC | 923 Old Bainbridge Road Housing | Tallahassee | FL | 32303 | 18,330
TAMPA BAY COMMUNITY DEVELOPMENT CORPORATION | 2139 NE, Coachman Road, Suite 1 | Clearwater | FL | 33765 | 39,334
THE AGRICULTURE AND LABOR PROGRAM, INC | 300 Lynchburg Rd., Community & Economic Develop | Lake Alfred | FL | 33850 | 12,427
HOUSING AUTHORITY OF THE CITY OF FT. MYERS | 4224 Renaissance Preserve Way | Fort Myers | FL | 33916 | 13,936
WEST PALM BEACH HOUSING AUTHORITY | 3700 Georgia Avenue | West Palm Beach | FL | 33405 | 18,775
SMART MONEY HOUSING AKA SMART WOMEN SMART MONEY | 3510 W. Franklin Blvd | Chicago | IL | 60624 | 45,698
SPRINGFIELD HOUSING AUTHORITY | 200 North Eleventh Street Homeownership Programs | Springfield | IL | 62703 | 15,174
WILL COUNTY CENTER FOR COMMUNITY CONCERNS | 2455 Glenwood Ave n/a | Joliet | IL | 60435 | 33,739
TWIN RIVERS OPPORTUNITIES, INC | 318 Craven Street | New Bern | NC | 28563 | 24,921
WESTERN PIEDMONT COUNCIL OF GOVERNMENTS | 1880 2ND AVE NW, POX 9026 | HICKORY | NC | 28601 | 40,701
SOUTHEASTERN HOUSING FOUNDATION | 10938 Ellenton Street, P.O. Box 1326 | Barnwell | SC | 29812 | 30,824
JACKSONVILLE AREA LEGAL AID, INC | 126 W. Adams St | Jacksonville | FL | 32202 | 22,929
KCEOC COMMUNITY ACTION PARTNERSHIP, INC | 5448 North US 25E, Suite A | Gray | KY | 40734 | 18,469
LINCOLN HILLS DEVELOPMENT CORPORATION | 302 Main Street, P.O. Box 336 | Tell City | IN | 47586 | 19,568
LIVE THE DREAM DEVELOPMENT, INC | 247 Double Spring Road | Bowling Green | KY | 42101 | 14,075
MACOUPIN COUNTY HOUSING AUTHORITY | 760 Anderson Street, P.O. Box 226 | Carlinville | IL | 62626 | 20,117
MID-FLORIDA HOUSING PARTNERSHIP, INC | 1834 Mason Avenue | Daytona Beach | FL | 32117 | 32,130
CAMPBELLSVILLE HOUSING AND REDEVELOPMENT AUTHORITY | 400 Ingram Ave | Campbellsville | KY | 42718 | 19,019
ADOPT A HURRICANE FAMILY, INC. DBA CRISIS HOUSING SOLUTIONS | 4700 SW, 64th Avenue—Suite C | Davie | FL | 33314 | 10,230
AFFORDABLE HOMEOWNERSHIP FOUNDATION INC | 5264 Clayton Court, Suite 1 | Fort Myers | FL | 33907 | 35,487
AFFORDABLE HOUSING ENTERPRISES, INC | 210 South 13th Street | Griffin | GA | 30224 | 16,133
APPALACHIAN HOUSING AND REDEVELOPMENT CORPORATION | 326 W. 9th Street | Rome | GA | 30165 | 19,568
AREA COMMITTEE TO IMPROVE OPPORTUNITIES NOW, INC | 2440 West Broad Street, Suite 9 | Athens | GA | 30606 | 16,272
BROWARD COUNTY HOUSING AUTHORITY | 4780 North State Road 7 | Lauderdale Lakes | FL | 33319 | 12,976
CHARLESTON TRIDENT URBAN LEAGUE, INC | 1064 Gardner Road, Suite 307 | Charleston | SC | 29407 | 24,372
CHATHAM COUNTY HOUSING AUTHORITY | Chatham County Housing Authority, 13450 US Hwy 64 West | Siler | NC | 27344 | 15,723
CITY OF ALBANY, GEORGIA | 230 S. Jackson Street, Suite #118 | Albany | GA | 31701 | 17,371
CITY OF BLOOMINGTON-HOUSING AND NEIGHBORHOOD DEVELOPMENT (HAND) | P.O. Box 100, 401 N. Morton Street | Bloomington | IN | 47404 | 10,000
CLINCH-POWELL RESOURCE CONSERVATION AND DEVELOPMENT COUNCIL, INC | P.O. Box 379, 7995 Rutledge Pike | Rutledge | TN | 37861 | 24,921
COMMUNITY ACTION AGENCY OF NORTHWEST ALABAMA, INC | 745 Thompson St | Florence | AL | 35630 | 26,979
COMMUNITY ACTION PARTNERSHIP, HUNTSVILLE/MADISON & LIMESTONE COUNTIES, INC | 3516 Stringfield Road, P.O. Box 3975 | Huntsville | AL | 35810 | 22,585
COMMUNITY ACTION PARTNERSHIP OF NORTH ALABAMA, INC | 1909 Central Parkway SW, Housing Counseling | Decatur | AL | 35601 | 28,627
COMMUNITY ENTERPRISE INVESTMENTS, INCORPORATED | 302 North Barcelona St | Pensacola | FL | 32502 | 12,427
LEE COUNTY HOUSING DEVELOPMENT CORPORATION | 3677 Central Ave., Suite F | Fort Myers | FL | 33901 | 21,626
COMMUNITY HOUSING INITIATIVE, INC | 3033 College Wood Drive, P.O. Box 410522, Melbourne, FL 32941-0522 | Melbourne | FL | 32934 | 22,036
COMMUNITY SERVICE PROGRAMS OF WEST ALABAMA, INC | 601 Black Bears Way | Tuscaloosa | AL | 35401 | 32,472
COMPREHENSIVE HOUSING RESOURCES, INC | 21450 Gibralter Drive, Suite 1 | Port Charlotte | FL | 33952 | 22,036
CONSOLIDATED CREDIT SOLUTIONS, INC | 5701 West Sunrise Blvd. | Plantation | FL | 33313 | 65,471
EASTERN EIGHT COMMUNITY DEVELOPMENT CORP | 214 East Watauga Avenue | Johnson City | TN | 37601 | 31,784
HABITAT FOR HUMANITY OF JACKSONVILLE, INC | 2404 Hubbard St | Jacksonville | FL | 32206 | 15,583
HOME OWNERSHIP RESOURCE CENTER OF LEE COUNTY | 2915 Colonial Boulevard, Suite 200 | Fort Myers | FL | 33966 | 24,921
GREENVILLE COUNTY HUMAN RELATIONS COMMISSION | 301 University Ridge, Suite 1600 | Greenville | SC | 29601 | 39,332
OPERATION HOPE, INC | 191 Peachtree Street Tower, Suite 3849, HOPE Inside Home Ownership | Atlanta | GA | 30303 | 412,490
DEBT MANAGEMENT CREDIT COUNSELING CORP | 3310 N. Federal Highway | Lighthouse Point | FL | 33064 | 110,594
CREDIT CARD MGMT SVCS, INC DBA REVERSEMORTGAGEHELPER.ORG AND DEBTHELPER.COM | 1325 N. Congress Ave. 201 | West Palm Beach | FL | 33401 | 185,814
KENTUCKY HOUSING CORPORATION | 1231 Louisville Road Housing Education and Counseli | Frankfort | KY | 40601 | 206,107
GEORGIA HOUSING AND FINANCE AUTHORITY | 60 Executive Park South NE | Atlanta | GA | 30329 | 721,169
VIRGIN ISLANDS HOUSING FINANCE AUTHORITY | 3202 Demarara Plaza, Suite 200 | St. Thomas | VI | 00802 | 49,964
TENNESSEE HOUSING DEVELOPMENT AGENCY | 502 Deaderick Street, Third Floor | Nashville | TN | 37243 | 186,978
MISSISSIPPI HOME CORPORATION | 735 Riverside Drive | Jackson | MS | 39202 | 286,152
INDIANA HOUSING AND COMMUNITY DEVELOPMENT AUTHORITY | 30 South Meridian Street, Suite 900 | Indianapolis | IN | 46204 | 113,680
NORTHWEST REGIONAL HOUSING AUTHORITY | P.O. Box 2568, 114 Sisco Avenue | Harrison | AR | 72601 | 16,272
SOUTHERN BANCORP COMMUNITY PARTNERS | 8924 Kanis Road | Little Rock | AR | 72205 | 27,529
UNIVERSAL HOUSING DEVELOPMENT CORPORATION | 301 E Third Street | Russellville | AR | 72801 | 26,020
SOUTHERN MINNESOTA REGIONAL LEGAL SERVICES, INC | 55 East Fifth Street, Suite 400 | St. Paul | MN | 55101 | 36,449
YOUTH EDUCATION AND HEALTH IN SOULARD | 1924 S 12th St | St. Louis | MO | 63104 | 25,329
QUICKCERT, INC | 7122 S Sheridan Rd., Ste. 2-533 | Tulsa | OK | 74133 | 128,486
WACO COMMUNITY DEVELOPMENT CORPORATION | 1624 Colcord Ave | Waco | TX | 76707 | 23,823
UTAH STATE UNIVERSITY—FAMILY LIFE CENTER—HFC | 1415 Old Main Hill, Main 64 | Logan | UT | 84322 | 42,630
HOUSING PARTNERS OF TULSA, INCORPORATED | 415 E Independence Street | Tulsa | OK | 74106 | 30,275
MUSCATINE MUNICIPAL HOUSING AGENCY | 215 Sycamore St., Housing | Muscatine | IA | 52761 | 17,166
MOVIN' OUT, INC | 902 Royster Oaks Drive, Ste. 105 | Madison | WI | 53714 | 33,022
NEIGHBORHOOD HOUSING SERVICES OF KANSAS CITY, INC | 616 East 63rd Street, Suite 200 | Kansas City | MO | 64110 | 15,174
AUSTIN HABITAT FOR HUMANITY | 500 West Ben White Boulevard | Austin | TX | 78704 | 22,890
BLUE VALLEY COMMUNITY ACTION PARTNERSHIP | 620 5th Street, P.O. Box 273 | Fairbury | NE | 68352 | 23,823
CATHOLIC CHARITIES DIOCESE OF ST. CLOUD | 911 18th Street North Financial & Housing Counseling | St. Cloud | MN | 56303 | 44,338
CENTER FOR SIOUXLAND | 715 Douglas Street | Sioux City | IA | 51101 | 40,640
CITY OF SAN ANTONIO/DEPT OF NEIGHBORHOOD AND HOUSING SERVICES (DNHS) | 1400 S Flores Street, Fair Housing | San Antonio | TX | 78204 | 26,430
COMMUNITY ACTION AGENCY OF OKLAHOMA CITY AND OKLAHOMA/CANADIAN COUNTIES, INC | 319 SW 25th St., Special Projects | Oklahoma City | OK | 73109 | 15,000
COMMUNITY ACTION SERVICES | 815 S Freedom Blvd., Suite 100 N/A | Provo | UT | 84601 | 21,216
COMMUNITY DEVELOPMENT SUPPORT ASSOCIATION | 114 S Independence St | Enid | OK | 73701 | 15,174
COMMUNITY SERVICES LEAGUE | 404 North Noland Road | Independence | MO | 64050 | 32,194
EASTER SEALS OF GREATER HOUSTON, INC | 4888 Loop Central Dr., Ste. 200 | Houston | TX | 77081 | 28,488
EASTERN IOWA REGIONAL HOUSING AUTHORITY | 7600 Commerce Park | Dubuque | IA | 52002 | 14,624
FAMILY HOUSING ADVISORY SERVICES, INC | 2401 Lake Street | Omaha | NE | 68111 | 44,000
FAMILY MANAGEMENT FINANCIAL SOLUTIONS, INC | 359 Rock Island Avenue | Waterloo | IA | 50701 | 30,824
HIGH PLAINS COMMUNITY DEVELOPMENT CORPORATION | 803 E. 3rd Street, Suite 4 | Chadron | NE | 69337 | 45,092
HOME OPPORTUNITIES MADE EASY, INC. (HOME, INC.) | 1618 6th Avenue | Des Moines | IA | 50314 | 21,142
HOUSING AUTHORITY OF THE CHOCTAW NATION OF OKLAHOMA | 207 Jim Monroe Rd | Hugo | OK | 74743 | 44,409
NORTH & EAST LUBBOCK COMMUNITY DEVELOPMENT CORPORATION | 1708 Crickets Ave | Lubbock | TX | 79401 | 11,915
CREDIT ADVISORS FOUNDATION | 1818 South 72nd Street | Omaha | NE | 68124 | 127,604
COLORADO HOUSING AND FINANCE AUTHORITY | 1981 Blake St | Denver | CO | 80202 | 532,390
LOUISIANA HOUSING CORPORATION | 2415 Quail Drive Housing Production | Baton Rouge | LA | 70808 | 580,206
SOUTH DAKOTA HOUSING DEVELOPMENT AUTHORITY | 3060 E. Elizabeth Street | Pierre | SD | 57501 | 213,520
PACIFIC COMMUNITY SERVICES, INC | 329 Railroad Ave., P.O. Box 1397 | Pittsburg | CA | 94565 | 17,166
PROJECT SENTINEL | 554 Valley Way | Milpitas | CA | 95035 | 67,316
SAN FRANCISCO HOUSING DEVELOPMENT CORPORATION | 4439 Third Street | San Francisco | CA | 94124 | 41,392
OPEN DOOR COUNSELING CENTER | 34420 South West Tualatin Valley Highway | Hillsboro | OR | 97123 | 41,736
LEGAL AID SOCIETY OF HAWAII | 924 Bethel Street | Honolulu | HI | 96813 | 22,934
ASIAN INCORPORATED | 1167 Mission Street, 4th Floor | San Francisco | CA | 94103 | 42,491
CITY OF VACAVILLE DEPARTMENT OF HOUSING SERVICES | 40 Eldridge Avenue, Suite 2, Housing Programs | Vacaville | CA | 95688 | 20,666
COMMUNITY CONNECTION OF NORTHEAST OREGON, INC | 2802 Adams Avenue | La Grande | OR | 97850 | 21,216
EDEN COUNCIL FOR HOPE AND OPPORTUNITY (ECHO) | 22551 Second Street, #200 | Hayward | CA | 94541 | 25,000
FAIR HOUSING ADVOCATES OF NORTHERN CALIFORNIA | 1314 Lincoln Ave., Suite A | San Rafael | CA | 94901 | 26,430
FAIR HOUSING COUNCIL OF RIVERSIDE COUNTY, INC | P.O. Box 1068 | Riverside | CA | 92502 | 38,646
HABITAT FOR HUMANITY MAUI, INC | 1162 Lower Main St., Housing Counseling | Wailuku | HI | 96793 | 19,568
HABITAT FOR HUMANITY, STANISLAUS COUNTY | 630 Kearney Avenue, Housing Counseling | Modesto | CA | 95350 | 22,724
HOUSING AUTHORITY OF YAMHILL COUNTY | 135 NE Dunn Place | McMinnville | OR | 97128 | 23,823
IDAHO HOUSING AND FINANCE ASSOCIATION | 565 W Myrtle Street, P.O. Box 7899 | Boise | ID | 83707 | 261,978
WASHINGTON STATE HOUSING FINANCE COMMISSION | 1000 2nd Ave., Suite 2700 Homeownership | Seattle | WA | 98104 | 372,314
Total |  |  |  |  | 42,841,684

FY2019 Housing Counseling Training Grant.

Lead grantee | Address | City | State | Zip code | Award amount
Rural Community Assistance Corp | 3120 Freeboard Drive, Suite 201 | West Sacramento | CA | 95691 | $344,373.53
National Community Reinvestment Coalition | 740 15th St. NW, Suite 400 | Washington | DC | 20005 | 617,251.26
Neighborworks America | 999 North Capital Street NE, Suite 900 | Washington | DC | 20002 | 889,909.10
Neighborhood Stabilization Corp | 225 Centre Street, Suite 100 | Boston | MA | 02119 | 240,580.84
Total |  |  |  |  | 2,500,000.00

Appendix J

FY2019 Choice Neighborhoods Planning Grants

Contact: Mindy Turbov, (202) 402-4191.

Lead grantee | Address | City | State | Zip code | Award amount
City of Huntsville | 308 Fountain Circle | Huntsville | AL | 35801-4240 | $1,300,000
City of Omaha | 1819 Farnam Street, Suite 300 | Omaha | NE | 68183 | 1,300,000
Housing Authority of the City of Rome | 326 West 9th Street | Rome | GA | 30162-1428 | 1,250,000
Trenton Housing Authority | 875 New Willow Street | Trenton | NJ | 08639 | 1,300,00
Total |  |  |  |  | 5,150,000

[FR Doc. 2020-06807 Filed 3-31-20; 8:45 am]

BILLING CODE 4210-67-P